DEPARTMENT OF ENERGY

Energy Information Administration

Agency Information Collection Activities: Submission for OMB Review; Comment Request; Correction

AGENCY: Energy Information Administration (EIA), Department of Energy (DOE).

ACTION: Agency Information Collection Activities: Submission for OMB Review; Comment Request; Correction.

SUMMARY: The EIA published a document in the Federal Register of July 6, 2009 announcing the submission of the form OE-781R, “Monthly Electricity Imports and Exports Report” to the Office of Management and Budget (OMB) for review and comment of a proposed three-year extension under section 3507(h)(1) of the Paperwork Reduction Act of 1995 (Pub. L. 104-13) (44 U.S.C. 3501 et seq.). The burden estimate published in this Federal Register notice, was incorrectly noted as 3,656 hours. The correct burden estimate is 1,926 hours. Additionally, “Fossil Energy” cited in paragraph (6) of the SUPPLEMENTARY INFORMATION section should have been referred to as “the Office of Electricity Delivery and Energy Reliability.”

FOR FURTHER INFORMATION CONTACT: Requests for additional information should be directed to Grace Sutherland. To ensure receipt of the comments by the due date, submission by FAX (202-586-5271) or e-mail (grace.sutherland@eia.doe.gov) is also recommended. The mailing address is Statistics and Methods Group (EI-70), Forrestal Building, U.S. Department of Energy, 1000 Independence Ave., SW., Washington, DC 20585-0670. Ms. Sutherland may be contacted by telephone at (202) 586-6264.

Correction

In the Federal Register of July 6, 2009, in FR Doc. E9-15912, make the following corrections:

On page 31937, first column, under the heading SUPPLEMENTARY INFORMATION: Paragraph (6), second sentence, is corrected to read:

(6) * * * The data are used by the Office of Electricity Delivery and Energy Reliability to monitor the levels of electricity imports and exports and are also used by EIA for publication.

Paragraph (8) is corrected to read:

(8) Estimate of the total annual reporting burden: 1,926 hours.

Issued in Washington, DC, July 9, 2009.
Stephanie Brown,
Director, Statistics and Methods Group, Energy Information Administration.

[FR Doc. E9-16823 Filed 7-15-09; 8:45 am]

BILLING CODE 6450-01-P